DEPARTMENT OF COMMERCE

International Trade Administration

[A-580-809]

Circular Welded Non-Alloy Steel Pipe From the Republic of Korea: Notice of Court Decision Not in Harmony With the Results of Antidumping Administrative Review; Notice of Amended Final Results

AGENCY: Enforcement and Compliance, International Trade Administration, Department of Commerce.

SUMMARY: On January 15, 2025, the U.S. Court of International Trade (CIT) issued its final judgment in Wheatland Tube v. United States, Court no. 22-00160, sustaining the U.S. Department of Commerce (Commerce)'s first remand results pertaining to the administrative review of the antidumping duty (AD) order on circular welded non-alloy steel pipe (CWP) from the Republic of Korea (Korea) covering the period November 1, 2019 through October 31, 2020. Commerce is notifying the public that the CIT's final judgment is not in harmony with Commerce's final results of the administrative review, and that Commerce is amending the final results with respect to the dumping margin assigned to Husteel Co., Ltd. (Husteel), Hyundai Steel Company (Hyundai), and the companies not selected for individual examination.

DATES: Applicable January 24, 2025.

FOR FURTHER INFORMATION CONTACT: Dusten Hom, AD/CVD Operations, Office I, Enforcement and Compliance, International Trade Administration, U.S. Department of Commerce, 1401 Constitution Avenue NW, Washington, DC 20230; telephone: (202) 482-5075.

SUPPLEMENTARY INFORMATION:

Background

On May 4, 2022, Commerce published its Final Results in the 2019-2020 AD administrative review of CWP from Korea. Commerce granted a constructed export price (CEP) offset to both Hyundai and Husteel (collectively, the mandatory respondents). The calculated weighted-average dumping margins for Hyundai and Husteel were 4.07 percent and 1.97 percent, respectively. Furthermore, the review specific rate assigned to companies not selected for individual examination was 3.21 percent.¹

¹ See Circular Welded Non-Alloy Steel Pipe from the Republic of Korea: Final Results of Antidumping Duty Administrative Review and Final Determination of No Shipments; 2019-2020, 87 FR 26343 (May 4, 2022) (Final Results).

Wheatland Tube appealed Commerce's Final Results. On August 3, 2023, the CIT remanded the Final Results to Commerce to: (1) provide the mandatory respondents with notice of deficiency in their respective submissions supporting their claims that home market sales during the period of review were at a more advanced level of trade (LOT) than the CEP level of trade; and (2) provide, to the extent practicable, an opportunity to remedy or explain the deficiencies identified in the Final Results.² Commerce subsequently issued a supplemental questionnaire on remand to each of the mandatory respondents identifying deficiencies and requesting information regarding their respective LOT analyses. In its Final Redetermination, issued in November 2023, Commerce denied a CEP offset to both of the mandatory respondents and recalculated the weighted-average dumping margins for both Hyundai and Husteel without a CEP offset, and revised the review specific rate assigned to companies not selected for individual examination.³ The CIT sustained Commerce's Final Redetermination.⁴

² See Wheatland Tube v. United States, 650 F. Supp. 3d 1379, 1383 (CIT 2023).

³ See Final Results of Redetermination Pursuant to Court Remand, Wheatland Tube v. United States, Court No. 22-00160, Slip Op. 23-112 (CIT June 9, 2023), dated November 1, 2023 (Final Redetermination).

⁴ See Wheatland Tube v. United States, Court No. 22-00160, Slip Op. 25-5 (CIT January 15, 2025).

Timken Notice

In its decision in Timken,⁵ as clarified by Diamond Sawblades,⁶ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's January 15, 2025, judgment constitutes a final decision of the CIT that is not in harmony with Commerce's Final Results. Thus, this notice is published in fulfillment of the publication requirements of Timken.

⁵ See Timken Co. v. United States, 893 F.2d 337 (Fed. Cir. 1990) (Timken).

⁶ See Diamond Sawblades Manufacturers Coalition v. United States, 626 F.3d 1374 (Fed. Cir. 2010) (Diamond Sawblades).

Amended Final Results

Because there is now a final court judgment, Commerce is amending its Final Results with respect to Husteel, Hyundai, and the companies not selected for individual examination as follows:

⁷ We note that the rates for Hyundai Steel Company and Husteel Co., Ltd. were in inadvertently switched in the Final Redetermination. The correct rates were listed in the Draft Results of Redetermination Pursuant to Court Remand, Wheatland Tube v. United States, et al. Court No. 22-00160, Slip Op. 23-112 (CIT June 9, 2023) and remained unchanged in the Final Redetermination.

⁸ See the appendix to this notice for an exhaustive list of all non-individually examined companies.

Producer/exporter | Weighted- average dumping margin (percent) ⁷
Hyundai Steel Company | 2.42
Husteel Co., Ltd | 4.95
Non-Selected Companies ⁸ | 3.91

Cash Deposit Requirements

Because Hyundai, Husteel, and each of the companies not selected for individual examination listed in the appendix all have a superseding cash deposit rate, i.e., there have been final results published in a subsequent administrative review,⁹ we will not issue revised cash deposit instructions to U.S. Customs and Border Protection (CBP). This notice will not affect the current cash deposit rates for those exporters/producers.

⁹ See Circular Welded Non-Alloy Steel Pipe from the Republic of Korea: Final Results of Antidumping Duty Administrative Review and Final Determination of No Shipments; 2021-2022; Correction, 89 FR 49842 (June 12, 2024).

Liquidation of Suspended Entries

At this time, Commerce remains enjoined by CIT order from liquidating entries that were produced and/or exported by: Husteel; Hyundai; Aju Besteel; Bookook Steel; Chang Won Bending; Dae Ryung; Daewoo Shipbuilding & Marine Engeineering (DSME); Daiduck Piping; Dong Yang Steel Pipe; Dongbu Steel (also known as Dongbu Steel Co., Ltd.); Eew Korea Company; Hyundai Rb; Kiduck Industries; Kum Kang Kind; Kumsoo Connecting; Miju Steel Mfg. (also known as Miju Steel Manufacturing); Nexteel Co., Ltd. (also known as Nexteel); Samkang M&T; Seah Fs; Seah Steel (also known as Seah Steel Corporation); Steel Flower; Vesta Co., Ltd.; and Ycp Co.; and were entered, or withdrawn from warehouse, for consumption during the period November 1, 2019 through October 31, 2020. These entries will remain enjoined pursuant to the terms of the injunction during the pendency of any appeals process.

In the event the CIT's ruling is not appealed, or, if appealed, upheld by a final and conclusive court decision, Commerce intends to instruct CBP to assess antidumping duties on unliquidated entries of subject merchandise produced and/or exported by the companies listed above in accordance with 19 CFR 351.212(b). We will instruct CBP to assess antidumping duties on all appropriate entries covered by this review when the importer-specific ad valorem assessment rate is not zero or de minimis. Where an import-specific ad valorem assessment rate is zero or de minimis,¹⁰ we will instruct CBP to liquidate the appropriate entries without regard to antidumping duties.

¹⁰ See 19 CFR 351.106(c)(2).

Notification to Interested Parties

This notice is issued and published in accordance with sections 516A(c) and (e) and 777(i)(1) of the Act.

Dated: January 24, 2025.
Abdelali Elouaradia,
Acting Assistant Secretary for Enforcement and Compliance.

[FR Doc. 2025-02166 Filed 2-3-25; 8:45 am]

BILLING CODE 3510-DS-P